FEDERAL COMMUNICATIONS COMMISSION

[FR ID 296102]

Sunshine Act Meeting; Open Commission Meeting Thursday, May 22, 2025

May, 15 2025.

The Federal Communications Commission will hold an Open Meeting on the subjects listed below on Thursday, May 22, 2025, which is scheduled to commence at 10:30 a.m. in the Commission Meeting Room of the Federal Communications Commission, 45 L Street NE, Washington, DC.

While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Office of Engineering and Technology | Title: Promoting the Integrity and Security of Telecommunications Certification Bodies, Measurement Facilities, and the Equipment Authorization Program (ET Docket No. 24-136).
|  | Summary: The Commission will consider a Report and Order and Further Notice of Proposed Rulemaking that would strengthen requirements and oversight relating to telecommunications certification bodies (TCBs), measurement facilities (test labs), and accreditation bodies to help ensure the integrity of these entities for purposes of our equipment authorization program, to better protect national security, and to advance the Commission's comprehensive strategy to build a more secure and resilient communications supply chain.
2 | Wireline Competition | Title: Protecting our Communications Networks by Promoting Transparency Regarding Foreign Adversary Control (GN Docket No. 25-166).
|  | Summary: The Commission will consider a Notice of Proposed Rulemaking that proposes to require holders of covered Commission-issued licenses, authorizations, or approvals to certify whether they are owned by, controlled by, or subject to the jurisdiction or direction of a foreign adversary and, if so, to disclose foreign ownership interests and the nature of the foreign adversary ownership and control.
3 | Space | Title: Expanding Use of the 12.7-13.25 GHz Band for Mobile Broadband or Other Expanded Use (GN Docket No. 22-352); Shared Use of the 42-42.5 GHz Band (WT Docket No. 23-158); Use of Spectrum Bands Above 24 GHz For Mobile Radio Services (GN Docket No. 14-177).
|  | Summary: The Commission will consider a Further Notice of Proposed Rulemaking that explores ways that the 12.7-13.25 GHz and 42.0-42.5 GHz bands could be used more intensively by satellite communications, as an alternative or a complement to the previous proposals for terrestrial wireless communications in these bands.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Katura Jackson,
Federal Register Liaison Officer.

[FR Doc. 2025-09533 Filed 5-22-25; 11:15 am]

BILLING CODE 6712-01-P